COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from Procurement List.

SUMMARY: The Committee is proposing to add to the Procurement List services to be furnished by nonprofit agencies employing persons who are blind or have other severe disabilities, and to delete commodities previously furnished by such agencies.

COMMENTS MUST BE RECEIVED ON OR BEFORE: January 21, 2002.

ADDRESS: Committee for Purchase From People Who Are Blind or Severely Disabled, Jefferson Plaza 2, Suite 10800, 1421 Jefferson Davis Highway, Arlington, Virginia 22202-3259.

FOR FURTHER INFORMATION CONTACT: Sheryl D. Kennerly (703) 603-7740.

SUPPLEMENTARY INFORMATION: This notice is published pursuant to 41 U.S.C. 47(a) (2) and 41 CFR 51-2.3. Its purpose is to provide interested persons an opportunity to submit comments on the possible impact of the proposed actions.

Additions

If the Committee approves the proposed addition, the entities of the Federal Government identified in this Notice will be required to procure the services listed below from nonprofit agencies employing persons who are blind or have other severe disabilities.

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46—48c) in connection with the services proposed for addition to the Procurement List. Comments on this certification are invited. Commenters should identify the statement(s) underlying the certification on which they are providing additional information. The following services are proposed for addition to Procurement List for production by the nonprofit agencies listed:

Services

Administrative Services

US Attorney's Office-Atlanta, DOJ, 1800 US Courthouse, 75 Spring St, Atlanta, Georgia.

NPA: Bobby Dodd Industries, Inc., Atlanta, Georgia.

Government Agency: U.S. Department of Justice.

Base Supply Center, 950 Otis St, Bldg 666, Peterson Air Force Base, Colorado.

NPA: Envision, Inc., Wichita, Kansas.

Government Agency: Department of the Air Force, Peterson Air Force Base, Colorado.

Janitorial/Custodial

Headquarters Complex, Buildings 1, 1470, 1471, 1840, 1844, Peterson Air Force Base, Colorado.

NPA: Professional Contract Services, Inc., Austin, Texas.

Government Agency: Department of the Air Force, Peterson Air Force Base, Colorado.

Janitorial/Grounds Maintenance/Parking Management

Department of Housing and Urban Development, Washington, DC.

NPA: Melwood Horticultural Training Center, Upper Marlboro, Maryland.

Government Agency: Department of Housing and Urban Development.

Mail and Messenger Service

Department of Housing and Urban Development, Washington, DC.

NPA: Didlake, Inc., Manassas, Virginia.

Government Agency: Department of Housing and Urban Development.

Deletions

I certify that the following action will not have a significant impact on a substantial number of small entities. The major factors considered for this certification were:

1. The action will not result in any additional reporting, recordkeeping or other compliance requirements for small entities.

2. The action will result in authorizing small entities to furnish the commodities to the Government.

3. There are no known regulatory alternatives which would accomplish the objectives of the Javits-Wagner-O'Day Act (41 U.S.C. 46—48c) in connection with the commodities proposed for deletion from the Procurement List.

The following commodities are proposed for deletion from the Procurement List:

Commodities

Executive/Personal Time Management System

7530-01-458-3146

7530-01-458-3143

7530-01-458-3145

7530-01-458-3130

7530-01-458-3136

7530-01-458-3152

7530-01-458-3159

7530-01-458-3154

7530-01-458-3142

7530-01-458-3161

7530-01-458-3164

7530-01-458-3135

7530-01-458-3139

7530-01-458-3131

7510-01-458-3137

7510-01-458-3141

7510-01-458-3132

7510-01-458-3133

7510-01-458-3147

7510-01-458-3150

7510-01-458-3138

Calendar Pad

7510-01-450-5452

Refill, Appointment Book

7530-01-450-5406

G. John Heyer,
General Counsel.

[FR Doc. 01-31480 Filed 12-20-01; 8:45 am]

BILLING CODE 6353-01-P